DEPARTMENT OF ENERGY

Federal Energy Regulatory Commission

18 CFR Part 1d

[Docket No. RM22-20-000]

Duty of Candor

AGENCY: Federal Energy Regulatory Commission.

ACTION: Withdrawal of notice of proposed rulemaking and termination of rulemaking proceeding.

SUMMARY: The Federal Energy Regulatory Commission is withdrawing a notice of proposed rulemaking, which proposed adding a new section to 18 CFR part 1 to require that any entity communicating with the Commission or other specified organizations related to a matter subject to the jurisdiction of the Commission submit accurate and factual information and not submit false or misleading information or omit material information. The Commission is also terminating this rulemaking proceeding.

DATES: The notice of proposed rulemaking published in the Federal Register at 87 FR 49784 on August 12, 2022, is withdrawn as of November 25, 2025.

FOR FURTHER INFORMATION CONTACT:

Gabe Sterling, Legal Information, Office of Enforcement, Division of Investigations, Federal Energy Regulatory Commission, 888 First Street NE, Washington, DC 20426, (202) 502-8891, gabriel.sterling@ferc.gov

Andrea Cerbin, Legal Information, Office of Enforcement, Division of Investigations, Federal Energy Regulatory Commission, 888 First Street NE, Washington, DC 20426, (202) 502-8362, andrea.cerbin@ferc.gov.

SUPPLEMENTARY INFORMATION:

1. On July 28, 2022, the Federal Energy Regulatory Commission (Commission) issued a notice of proposed rulemaking (NOPR), proposing to add new section 1d.1 to 18 CFR part 1, requiring that any entity communicating with the Commission or other specified organizations related to a matter subject to the jurisdiction of the Commission submit accurate and factual information and not submit false or misleading information or omit material information.¹ The Commission received 36 comments in response to the NOPR.² Based on consideration of the record, we are exercising our discretion to withdraw the NOPR and terminate the rulemaking proceeding. We appreciate the feedback commenters provided on the NOPR, which informed our decision not to proceed with the rulemaking at this time.

¹ Duty of Candor, 87 FR 49784 (Aug 12, 2022), 180 FERC ¶ 61,052 (2022) (NOPR).

² American Bar Association; American Forest & Paper Association et al.; American Gas Association; American Public Gas Association; American Public Power Association; Arizona Public Service Company; California Independent System Operator Corporation; David R. Bryant; Delaware Riverkeeper Network; Driftwood Pipeline LLC; Edison Electric Institute; Enbridge Gas Pipelines; Joint Comments Energy Trade Associations et al.; Futures Industry Association; Gabrielle M. Lattery; Interstate Natural Gas Association of America; ISO New England Inc.; Independent Market Monitor for the California Independent System Operator; ISO-NE Internal Market Monitor; Jeremy D. Weinstein; John Fitzhenry; Liquid Energy Pipeline Association; Natural Gas Supply Association; New Civil Liberties Alliance; Niskanen Center et al.; Nodal Exchange, LLC and Nodal Clear LLC (Nodal); National Rural Electric Cooperative Association; New York Independent System Operator, Inc.; PJM Independent Market Monitor; Potomac Economics, Ltd.; Southwest Power Pool Market Monitoring Unit; State Agencies; TC Energy Corp.; U.S. Chamber of Commerce; WBI Energy Transmission, Inc.

2. The Commission stresses that there are numerous existing regulations that prohibit untruthful, inaccurate, or incomplete communications to the Commission and other organizations upon which it relies.³ The Commission will continue to diligently enforce those regulations. Further, the Commission expects that regulated entities will continue to comply with all applicable existing duties of candor. The withdrawal of the NOPR and termination of this proceeding do not preclude the Commission from ensuring that information upon which it relies in exercising its statutory duties is truthful, accurate, and complete.

³ NOPR, 180 FERC ¶ 61,052 at PP 7-19.

The Commission orders: The NOPR is hereby withdrawn and Docket No. RM22-20-000 is hereby terminated.

By direction of the Commission.
Issued: November 20, 2025.
Debbie-Anne A. Reese,
Secretary.

[FR Doc. 2025-20906 Filed 11-24-25; 8:45 am]

BILLING CODE 6717-01-P